DEPARTMENT OF TRANSPORTATION

Federal Aviation Administration

14 CFR Part 39

[Docket No. FAA-2006-24585; Directorate Identifier 2004-NM-275-AD; Amendment 39-14743; AD 2006-18-05]

RIN 2120-AA64

Airworthiness Directives; McDonnell Douglas Model DC-9-14, DC-9-15, and DC-9-15F Airplanes; Model DC-9-21 Airplanes; Model DC-9-30 Series Airplanes; Model DC-9-41 Airplanes; and Model DC-9-51 Airplanes

AGENCY: Federal Aviation Administration (FAA), Department of Transportation (DOT).

ACTION: Final rule.

SUMMARY: The FAA is superseding an existing airworthiness directive (AD), which applies to certain McDonnell Douglas Model DC-9-10, DC-9-20, DC-9-30, DC-9-40, and DC-9-50 series airplanes. That AD currently requires a one-time inspection at a certain disconnect panel in the left forward cargo compartment to find contamination of electrical connectors and to determine if a dripshield is installed over the disconnect panel, and corrective actions if necessary. This new AD revises the applicability of the existing AD by removing certain airplanes and adding others. This AD results from a report of electrical arcing that resulted in a fire. We are issuing this AD to prevent contamination of certain electrical connectors, which could cause electrical arcing and consequent fire on the airplane.

DATES: This AD becomes effective October 11, 2006.

The Director of the Federal Register approved the incorporation by reference of a certain publication listed in the AD as of October 11, 2006.

On March 7, 2003 (68 FR 4900, January 31, 2003), the Director of the Federal Register approved the incorporation by reference of Boeing Alert Service Bulletin DC9-24A190, Revision 01, excluding Evaluation Form, dated November 21, 2001.

ADDRESSES: You may examine the AD docket on the Internet at http://dms.dot.gov or in person at the Docket Management Facility, U.S. Department of Transportation, 400 Seventh Street, SW., Nassif Building, Room PL-401, Washington, DC.

Contact Boeing Commercial Airplanes, Long Beach Division, 3855 Lakewood Boulevard, Long Beach, California 90846, Attention: Data and Service Management, Dept. C1-L5A (D800-0024), for service information identified in this AD.

FOR FURTHER INFORMATION CONTACT: Elvin K. Wheeler, Aerospace Engineer, Systems and Equipment Branch, ANM-130L, FAA, Los Angeles Aircraft Certification Office, 3960 Paramount Boulevard, Lakewood, California 90712-4137; telephone (562) 627-5344; fax (562) 627-5210.

SUPPLEMENTARY INFORMATION:

Examining the Docket

You may examine the airworthiness directive (AD) docket on the Internet at http://dms.dot.gov or in person at the Docket Management Facility office between 9 a.m. and 5 p.m., Monday through Friday, except Federal holidays. The Docket Management Facility office (telephone (800) 647-5227) is located on the plaza level of the Nassif Building at the street address stated in the ADDRESSES section.

Discussion

The FAA issued a notice of proposed rulemaking (NPRM) to amend 14 CFR part 39 to include an AD that supersedes AD 2003-03-08, amendment 39-13032 (68 FR 4900, January 31, 2003). The existing AD applies to certain McDonnell Douglas DC-9-10, DC-9-20, DC-9-30, DC-9-40, and DC-9-50 series airplanes. That NPRM was published in the Federal Register on May 1, 2006 (71 FR 25510). That NPRM proposed to continue to require a one-time inspection at a certain disconnect panel in the left forward cargo compartment to find contamination of electrical connectors and to determine if a dripshield is installed over the disconnect panel, and corrective actions if necessary. That NPRM also proposed to revise the applicability of the existing AD to remove certain airplanes and add others.

Comments

We provided the public the opportunity to participate in the development of this AD. We have considered the comments that have been received on the NPRM.

Request To Clarify Applicability

ABX Air requests that we revise paragraph (h) of this AD to specify that it applies to airplanes equipped with forward lavatories. The commenter states that this change would be consistent with the applicability of AD 2003-03-08. The commenter also states that the change would eliminate the need for requesting an alternative method of compliance (AMOC) for airplanes that have had the forward lavatories removed.

We agree that paragraph (h) applies to airplanes equipped with forward lavatories. We point out that the effectivity of Boeing Alert Service Bulletin DC9-24A190, Revision 2, dated October 12, 2004, notes clearly that the service bulletin is applicable only to airplanes with forward lavatories installed. Since we reference Revision 2 in the applicability of this AD, this AD applies to the airplanes identified in Revision 2 and equipped with forward lavatories. However, we have revised paragraph (h) of this AD as proposed by the commenter to provide clarification.

Request To Accept Previous AMOCs

Northwest Airlines (NWA) states that it has accomplished the intent of AD 2003-03-08 on all DC-9 airplanes in its fleet through two AMOCs, which allow use of alternative replacement parts. (The requirements of AD 2003-03-08 (corresponding to paragraph (f) of this AD) apply only to airplanes identified in Boeing Alert Service Bulletin DC9-24A190, Revision 01, dated November 21, 2001.) NWA states that it has inspected and modified several airplanes in accordance with AD 2003-03-08, which are not included in the effectivity of Revision 01 of the service bulletin. NWA further states that paragraph (h), as written in the NPRM, applies to any airplane that is not listed in Revision 01. NWA asserts that any such airplane would be required to accomplish paragraph (h) in accordance with Revision 2 of the service bulletin. Therefore, NWA requests that we revise the NPRM to accept previously granted AMOCs to AD 2003-03-08. As justification, NWA states that this change would allow compliance with Revision 2 (required by paragraph (h) of this AD) without having to apply for an additional AMOC. We infer that NWA would like previous AMOCs to be acceptable for compliance with both paragraphs (f) and (h) of this AD.

We agree that AMOCs approved previously in accordance with AD 2003-03-08 are acceptable for the corresponding provisions of paragraph (f) of this AD. Consequently, we have added a new paragraph (j)(3) to this AD accepting those AMOCs. However, we disagree with the commenter's interpretation that paragraph (h) of this AD applies to any airplane not identified in Revision 01 of the service bulletin. According to paragraph (c) of this AD, this AD applies only to the airplanes identified in Revision 2 of the service bulletin. Therefore, paragraph (h) of this AD applies to the airplanes identified in Revision 2 (and equipped with forward lavatories), except those on which Revision 01 of the service bulletin has been previously accomplished. Furthermore, it is not our intent to require accomplishment of both Revisions 01 and 2. Therefore, we have added a new paragraph (i) to this AD, which states that accomplishing the actions specified in paragraph (f) of this AD before the effective date of this AD is acceptable for compliance with the requirements of paragraph (h) of this AD. We have reidentified the subsequent paragraphs accordingly.

Conclusion

We have carefully reviewed the available data, including the comments that have been received, and determined that air safety and the public interest require adopting the AD with the changes described previously. We have determined that these changes will neither increase the economic burden on any operator nor increase the scope of the AD.

Costs of Compliance

There are about 649 airplanes of the affected design in the worldwide fleet. The following table provides the estimated costs for U.S. operators to comply with this AD.

Estimated Costs
Action | Work hours | Average labor rate per hour | Cost per airplane | Number of U.S.-registered airplanes | Fleet cost
Inspection (required by AD 2003-03-08) | 1 | $80 | $80 | 170 | $13,600
Inspection (new action) | 1 | 80 | 80 | 254 | 20,320

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD docket. See the ADDRESSES section for a location to examine the regulatory evaluation.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The Federal Aviation Administration (FAA) amends § 39.13 by removing amendment 39-13032 (68 FR 4900, January 31, 2003) and by adding the following new airworthiness directive (AD):

2006-18-05 McDonnell Douglas: Amendment 39-14743. Docket No. FAA-2006-24585; Directorate Identifier 2004-NM-275-AD.

Effective Date

(a) This AD becomes effective October 11, 2006.

Affected ADs

(b) This AD supersedes AD 2003-03-08.

Applicability

(c) This AD applies to the McDonnell Douglas airplanes identified in Table 1 of this AD, certificated in any category, as identified in Boeing Alert Service Bulletin DC9-24A190, Revision 2, dated October 12, 2004.

Table 1.—Affected Airplanes
Model
(1) DC-9-14, DC-9-15, and DC-9-15F airplanes.
(2) DC-9-21 airplanes.
(3) DC-9-31, DC-9-32, DC-9-32 (VC-9C), DC-9-32F, DC-9-32F (C-9A, C-9B), DC-9-33F, DC-9-34, and DC-9-34F airplanes.
(4) DC-9-41 airplanes.
(5) DC-9-51 airplanes.

Unsafe Condition

(d) This AD results from a report of electrical arcing that resulted in a fire. We are issuing this AD to prevent contamination of certain electrical connectors, which could cause electrical arcing and consequent fire on the airplane.

Compliance

(e) You are responsible for having the actions required by this AD performed within the compliance times specified, unless the actions have already been done.

Requirements of AD 2003-03-08

One-Time Inspection and Corrective Actions

(f) For airplanes equipped with forward lavatories, as listed in Boeing Alert Service Bulletin DC9-24A190, Revision 01, dated November 21, 2001: Within 18 months after March 7, 2003 (the effective date of AD 2003-03-08), perform a one-time general visual inspection of the disconnect panel at station Y=237.000 in the left forward cargo compartment to find evidence of contamination (e.g., staining or corrosion) of electrical connectors by blue water, and to determine if a dripshield is installed over the disconnect panel. Do this inspection according to the Accomplishment Instructions of Boeing Alert Service Bulletin DC9-24A190, Revision 01, excluding Evaluation Form, dated November 21, 2001.

(1) If no evidence of contamination of electrical connectors is found, and a dripshield is installed, no further action is required by this AD.

(2) If any evidence of contamination of any electrical connector is found: Before further flight, remove each affected connector, and install a new or serviceable connector according to the service bulletin.

(3) If no dripshield is installed over the disconnect panel: Before further flight, install a dripshield according to the service bulletin.

Previously Accomplished Inspections and Corrective Actions

(g) Inspections and corrective actions accomplished before March 7, 2003, in accordance with the Accomplishment Instructions of Boeing Alert Service Bulletin DC9-24A190, dated July 31, 2001, are considered acceptable for compliance with the corresponding actions specified in paragraph (f) of this AD.

New Requirements of This AD

One-Time Inspection and Corrective Actions

(h) For airplanes equipped with forward lavatories, other than those identified in paragraph (f) of this AD: Within 18 months after the effective date of this AD, do the one-time general visual inspection and applicable corrective actions specified in paragraph (f) of this AD, in accordance with Boeing Alert Service Bulletin DC9-24A190, Revision 2, dated October 12, 2004. The applicable corrective actions must be done before further flight.

Credit for Previous Accomplishment

(i) For airplanes equipped with forward lavatories, as identified in Boeing Alert Service Bulletin DC9-24A190, Revision 2, dated October 12, 2004: Accomplishing the actions specified in paragraph (f) of this AD before the effective date of this AD is acceptable for compliance with the requirements of paragraph (h) of this AD.

Alternative Methods of Compliance (AMOCs)

(j)(1) The Manager, Los Angeles Aircraft Certification Office, FAA, has the authority to approve AMOCs for this AD, if requested in accordance with the procedures found in 14 CFR 39.19.

(2) Before using any AMOC approved in accordance with § 39.19 on any airplane to which the AMOC applies, notify the appropriate principal inspector in the FAA Flight Standards Certificate Holding District Office.

(3) AMOCs approved previously in accordance with AD 2003-03-08 are approved as AMOCs for the corresponding provisions of paragraph (f) of this AD.

Material Incorporated by Reference

(k) You must use Boeing Alert Service Bulletin DC9-24A190, Revision 2, dated October 12, 2004; or Boeing Alert Service Bulletin DC9-24A190, Revision 01, excluding Evaluation Form, dated November 21, 2001, as applicable, to perform the actions that are required by this AD, unless the AD specifies otherwise.

(1) The Director of the Federal Register approved the incorporation by reference of Boeing Alert Service Bulletin DC9-24A190, Revision 2, dated October 12, 2004, in accordance with 5 U.S.C. 552(a) and 1 CFR part 51.

(2) On March 7, 2003 (68 FR 4900, January 31, 2003), the Director of the Federal Register approved the incorporation by reference of Boeing Alert Service Bulletin DC9-24A190, Revision 01, excluding Evaluation Form, dated November 21, 2001.

(3) Contact Boeing Commercial Airplanes, Long Beach Division, 3855 Lakewood Boulevard, Long Beach, California 90846, Attention: Data and Service Management, Dept. C1-L5A (D800-0024), for a copy of this service information. You may review copies at the Docket Management Facility, U.S. Department of Transportation, 400 Seventh Street SW., Room PL-401, Nassif Building, Washington, DC; on the Internet at http://dms.dot.gov; or at the National Archives and Records Administration (NARA). For information on the availability of this material at the NARA, call (202) 741-6030, or go to http://www.archives.gov/federal_register/code_of_federal_regulations/ibr_locations.html.

Issued in Renton, Washington, on August 23, 2006.
Kalene C. Yanamura,
Acting Manager, Transport Airplane Directorate, Aircraft Certification Service.

[FR Doc. E6-14627 Filed 9-5-06; 8:45 am]

BILLING CODE 4910-13-P